DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention's (CSAP) Drug Testing Advisory Board (DTAB) will convene via web conference on December 3, 2024, from 10 a.m. EST to 2:30 p.m. EST.

The board will meet in open session December 3, 2024, from 10 a.m. EST to 2:30 p.m. EST to hear updates from the Department of Transportation (DOT), the Department of Defense (DoD) and the Nuclear Regulatory Commission (NRC), and updates from HHS on the Federal Workplace Drug Testing Program and Mandatory Guidelines. Additionally, the board will hear presentations regarding a collaboration between the Department of Defense and the Division of Workplace Programs as well as data presented for consideration regarding evaluation of the cutoff for an invalid pH result in urine.

Data provided by HHS-certified laboratories indicates that invalid urine pH results cycle with the seasonal temperature fluctuations. Data will be presented to facilitate and inform decisions regarding a possible adjustment in the cutoff for urine pH to reduce this cyclical effect while continuing to identify potential tampering of specimens.

Meeting registration information can be completed at https://snacregister.samhsa.gov/. Web conference and call information will be sent after completing registration. Meeting information and a roster of DTAB members may be obtained by accessing the SAMHSA Advisory Committees website, https://www.samhsa.gov/about-us/advisory-councils/meetings, or by contacting the Designated Federal Officer, Lisa Davis.

Committee Name: Substance Abuse and Mental Health Services Administration, Center for Substance Abuse Prevention, Drug Testing Advisory Board.

Dates/Time/Type: December 3, 2024, from 10:00am EST to 2:30pm EST: Open.

Place: Virtual.

To Submit Comments: Requests to make public comment during the public comment period of the December DTAB meeting must be made in writing at least 7 days prior to the meeting to the following email: DFWP@samhsa.hhs.gov.

Contact: Lisa S. Davis, M.S, Social Science Analyst, Center for Substance Abuse Prevention, 5600 Fishers Lane, Rockville, Maryland, 20857, Telephone: (240) 276-1440, Email: Lisa.Davis@samhsa.hhs.gov.

Anastasia Flanagan,
Public Health Advisor, Division of Workplace Programs.

[FR Doc. 2024-24972 Filed 10-25-24; 8:45 am]

BILLING CODE 4162-20-P